DEPARTMENT OF AGRICULTURE

Forest Service

Kings River Experimental Watershed Forest Health and Research Project

AGENCY: Sierra National Forest, Forest Service, USDA.

ACTION: Notice of intent to prepare an environmental impact statement.

SUMMARY: The Forest Service will prepare a Kings River Experimental Watershed Forest Health and Research Project (KREW Project) Environmental Impact Statement (EIS). The EIS will evaluate the environmental effects of the KREW Project which is designed to treat portions of the Kings River watershed to improve forest health and to examine the short- and long-term effects of these treatments. The research will lead to information that will be instrumental in future land management planning for the Sierra National Forest (SNF) and other Sierra Nevada forests.

DATES: Comments concerning the scope of the analysis must be received by November 13, 2009. The draft environmental impact statement is expected December 2009 and the final environmental impact statement is expected April 2010.

ADDRESSES: Send written comments to Judi Tapia, SNF, Supervisor's Office, 1600 Tollhouse Road, Clovis, CA 93611, Attn: KREW Project.

Comments may also be sent via e-mail to jetapia@fs.fed.us, or via facsimile to 559-294 4809.

It is important that reviewers provide their comments at such times and in such a way that they are useful to the Agency's preparation of the EIS. We intend to use comments received from the public to help formulate our draft EIS so please provide any suggestions or concerns prior to the close of the comment period.

Comments received in response to this solicitation, including names and addresses of those who comment, will be part of the public record for this proposed action. Comments submitted anonymously will be accepted and considered, however.

FOR FURTHER INFORMATION CONTACT: For research information, contact Carolyn Hunsaker, Ecologist, Pacific Southwest Research Station (PSW), available by phone at 559-323-3211 or via e-mail at chunsaker@fs.fed.us. For forest management information, contact Judi Tapia at 559-297-0706 extension 4938 or via e-mail at: jetapia@fs.fed.us. Information regarding the KREW Project EIS can be found on the SNF Web site located at: http://www.fs.fed.us/sierralprojects/.

Individuals who use telecommunication devices for the deaf (TDD) may call the Federal Information Relay Service (FIRS) at 1-800-877-8339 between 8 a.m. and 8 p.m., Eastern Time, Monday through Friday.

SUPPLEMENTARY INFORMATION: The Forest Service routinely conducts land management activities to help restore forests to a healthy, diverse, fire-resilient condition by reducing stand densities and fuel loads. Such management activities involve thinning forests to reduce competition among trees for water, nutrients, and sunlight; to reduce the continuity of fuels; and to protect and/or reestablish a resilient, diverse forest ecosystem.

PSW, in collaboration with the SNF, propose to complete a land management project to achieve forest health goals, part of which is the subject of research to assess the response of the ecosystem to these management practices. The forest management practices are designed for ecological restoration: for example, to reduce the effects of uncharacteristic wildfire, drought, invasive species and insect attack while providing habitat for wildlife species including sensitive species such as California spotted owl, Pacific fisher, and Yosemite toad.

The proposed KREW Project activities, implemented under the SNF Land and Resources Management Plan (LRMP) as amended by the 2004 SNF LRMP Amendment, have two coupled components: Component 1, management treatments and Component 2, research to examine ecosystem response to those treatments. The research has been underway since 2000 to instrument the subject watersheds and measure baseline (pre-treatment) ecological response. Upon completion of the forest restoration treatments planned post-treatment data collection will be completed.

The project area encompasses 3,051 acres and has two separate parts: the KREW Providence Unit (1,899 acres) and the KREW Bull Unit (1,152 acres). The KREW Providence Unit is off of the Dinkey Creek Road, adjacent to the Providence Creek Road. The KREW Bull Unit is on Patterson Mountain adjacent to the Ross Crossing Road and includes part of the Teakettle Experimental Forest.

Much is known about vegetative responses to thinning in terms of growth rates, resistance to insect attack, and resulting fire behavior in treated stands. Less is known about physical, biological, and chemical responses to moderate thinning of trees and application of prescribed fire at a watershed scale. The KREW Project research component is a replicated, paired-watershed research area for headwater streams in the southern Sierra Nevada. The KREW Project research addresses both basic and applied science questions regarding sustainable forests for current and future conditions. The KREW Project research component is a formal research project and has a scientist reviewed study plan that is periodically updated (http://www.psw.fs.fed.us/snrc/water/kingsriver). The Forest Service already collects data at eight instrumented watersheds on the following topics to meet KREW Project research goals:

• Hydrology.

• Meteorology.

• Air quality.

• Sediment & turbidity.

• Soils & geomorphology.

• Water chemistry.

• Biology.

—Stream macroinvertebrates.

—Algae.

—Riparian & upland vegetation & fuels.

—Yosemite toad.

In June of 2009, the Sierra Nevada Alliance highlighted the need to monitor, protect and restore Sierra Nevada headwater resources. The KREW Project is uniquely positioned to allow researchers to collect data from an area where a particular management practice is applied along with corresponding data from a similar, but untreated area. By conducting various types of thinning and prescribed fire treatments and comparing data from paired areas, the proposed research project is intended to evaluate the watershed-scale effects of management activities designed to create a more sustainable forest in a financially viable way.

Purpose and Need for Action

The KREW Project has two goals: the SNF's goal of forest health treatment for the Providence and Bull Units of the Kings River watershed and PSW's goal of information development on treatment methods. There is an urgent need to treat headwaters in the Kings River watershed to improve forest health and reduce the risk of catastrophic fire, and while doing so, to further our understanding of ecological responses to forest management activities.

Sierra waters are critical for the health and welfare of California and yet there has been minimal attention and resources dedicated to the protection and restoration of this headwater resource. The Sierra Nevada Alliance reports that 75% of California's rain and snow falls in the Sierra which provides 55 to 65% of California's developed water. The need for the proposed research in the Sierra Nevada is emphasized by financial support to the KREW Project from the State of California, CalFed Watershed Program administered by the California Regional Water Quality Control Board, and by a recent report from the Sierra Nevada Alliance, “Investing in California's Headwaters: The Sierra Nevada.” In addition, the National Science Foundation is funding university scientists to perform research to cooperate with the KREW Project. The research component of the KREW Project influenced the siting selection of the California portions of the National Ecological Observatory Network. The KREW Project research component is designed to be relevant to Federal, State and private forest land. The KREW Project will also provide much needed data for the Southern Sierra Integrated Regional Water Management Plan.

North and others in 2009 recognized that “management practices that help restore the forest headwaters of Sierran watersheds will benefit water production and quality for downstream users.” The SNF and PSW have been working toward the goal of forest health treatment in the Kings River watershed for more than a decade. As each year goes by, the health of the forest in these areas has a greater potential to be impacted by various factors including drought, uncharacteristic wildfire and insect infestation. Treatment to enhance ecological health in the Kings River watershed has been delayed due to setbacks in the completion of key environmental documentation. It is important that treatments be accomplished and research information be available to provide factual information for the design of future forest management activities.

The KREW Project objectives include:

• Treat the Providence and the Bull Units to improve forest ecological health in a financially viable way.

• Define the variability in and understand the processes of headwater streams, their riparian areas, and associated watersheds.

• Evaluate the effects of management activities (prescribed fire, mechanical thinning, and commercial tree harvesting) designed to create a more sustainable forest.

• Provide an instrumented research site to evaluate regional stresses such as air pollution and climate change.

• Develop a multidisciplinary database that is dense enough in time and space for computer modeling applications.

Proposed Action

The proposed action would apply treatments on the majority of the acres in Providence and Bull Units for ecological restoration and study their short- and long-term effects at the watershed scale. The proposed action includes tree thinning with commercial tree harvest, underburning, reforestation, plantation maintenance, fuels treatments, and herbicide treatments to plantations and noxious weeds. Tree removal and retention emphasizes heterogeneity through a variable growing space retention based on aspect, slope position, site productivity, tree species and recognition of micro-site conditions. Restoration of native species composition is proposed through the regeneration of pine species; the retention of existing brush, pine and oaks consistent with the desired conditions; enhancement of growing conditions of existing young pine; and the eradication of noxious weed species.

The integrated condition of the streams and their associated watersheds and riparian areas will be evaluated with physical, chemical and biological measurements taken under a formal research study. The research areas within the Units, a subset of the entire proposed treatment area, have been assigned a treatment type for the purpose of the experimental design. The 1,899-acre Providence Unit includes research watersheds of 298 acres of potential thinning, 327 acres of underburn, 245 acres of combined underburning and potential thinning, and 120 acres of control (untreated). The 1,152-acre Bull Unit includes research areas of 131 acres of thinning, 342 acres of underburn, and 412 acres of combined thinning and underburning. The 562-acre control area for the Bull Unit is outside the KREW Project. Only a portion of the research areas designated for mechanical thinning will be thinned. Forest management treatments also occur outside the research areas and are not constrained by the research design.

Lead and Cooperating Agencies

The KREW Project is a collaborative effort between the SNF and the PSW. The PSW and the SNF share responsibility as the lead agency.

Responsible Officials

Ed Cole, SNF Forest Supervisor, Supervisor's Office, 1600 Tollhouse Road, Clovis, CA 93611

Peter Stine, Program Manager, PSW, 1731 Research Park Drive, Davis, CA 95618.

Nature of Decision To Be Made

The decision to be made is whether to implement the planned forest health treatments and proceed with research on the effects of those treatments, alternative forest health treatments, or select no action.

Scoping Process

This notice of intent initiates the scoping process, which guides the development of the environmental impact statement. Public scoping meetings will be held at the SNF, Supervisor's Office, 1600 Tollhouse Road, Clovis on Wednesday October 14th at 3 p.m. to 4:30 p.m. and from 6:30 to 8 p.m. on the same date at the SNF High Sierra Ranger District, 29688 Auberry Road, Prather, CA.

It is important that reviewers provide their comments at such times and in such manner that they are useful to the agency's preparation of the environmental impact statement. Therefore, comments should be provided prior to the close of the comment period and should clearly articulate the reviewer's concerns and contentions.

Dated: October 1, 2009.
Edward C. Cole,
Forest Supervisor.

[FR Doc. E9-24373 Filed 10-13-09; 8:45 am]

BILLING CODE 3410-11-M